DEPARTMENT OF AGRICULTURE

Rural Utilities Service

Highwood Generating Station

AGENCY: Rural Utilities Service, USDA.

ACTION: Notice of availability of Final Environmental Impact Statement.

SUMMARY: Notice is hereby given that the Rural Utilities Service (RUS), an agency which administers the U.S. Department of Agriculture's Rural Development Utilities Programs (USDA Rural Development), is issuing a Final Environmental Impact Statement (EIS) for the Highwood Generating Station (HGS). The Final EIS was prepared pursuant to the National Environmental Policy Act of 1969 (NEPA) (U.S.C. 4231 et seq.) in accordance with the Council on Environmental Quality (CEQ) regulations for implementing the procedural provisions of NEPA (40 CFR 1500—1508) and RUS regulations (7 CFR 1794). This document has been prepared jointly with the Montana Department of Environmental Quality (MDEQ), which has its own statutory mandates to analyze potential environmental impacts under the Montana Environmental Policy Act (MEPA) (75-1-101 et seq., MCA and ARM 17.4.601 et seq.) and to issue permits under the Montana Clean Air Act, Montana Clean Water Act, and Montana Solid Waste Management Act. USDA Rural Development invites comments on the Final EIS.

The purpose of the EIS is to evaluate the potential environmental impacts of and alternatives to the Southern Montana Electric Transmission & Generation Cooperative, Inc. (SME) application to USDA Rural Development for a loan guarantee to construct a 250 megawatt (MW) coal-fired power plant near Great Falls, Montana. SME also proposes to construct and operate four, 1.5-MW wind turbines at the proposed project site to generate supplemental electrical power.

DATES: Written comments on this Final EIS will be accepted on or before March 12, 2007.

ADDRESS FOR FURTHER INFORMATION: To send comments or for more information, contact: Richard Fristik, USDA, Rural Development, Utilities Programs, 1400 Independence Avenue, Mail Stop 1571, Room 2237, Washington, DC 20250-1571, telephone (202) 720-5093, fax (202) 720-0820, or e-mail: Richard.Fristik@wdc.usda.gov.

A copy of the FEIS has been sent to affected Federal, state, and local government agencies and to interested parties. The document can be obtained or viewed online at http://www.usda.gov/rus/water/ees/eis.htm. The files are in a portable document format (pdf); in order to review or print the document, users need to obtain a free copy of Adobe® Reader®. The Adobe® Reader® can be obtained from http://www.adobe.com/prodindex/acrobat/readstep.html.

Copies of the Final EIS will be available for public review during normal business hours at the following locations:

Montana State Library System, Attn: Roberta Gebhardt, P.O. Box 201800, Helena, MT 59620-1800, (406) 444-5393.

University of Montana at Missoula, 32 Campus Drive 59801, Mansfield Library, Missoula, MT 59812, (406) 243-6866.

Missoula Public Library, 301 East Main, Missoula, MT 59802-4799, (406) 721-2665, FAX: (406) 728-5900.

Montana State University Libraries, P.O. Box 173320, Bozeman, MT 59717-3320, Phone: (406) 994-3119, Fax: (406) 994-2851.

MSU-Northern Library, P.O. Box 7751, Havre, MT 59501-7751.

Great Falls Public Library, 301 2nd Ave. North, Great Falls MT 59401-2593, (406) 453-0349.

Havre-Hill County Library, 402 3rd St., Havre, MT 59501, (406) 265-2123.

Parmly Billings Library, 510 N 28th St. #1, Billings, MT 59101, (406) 657-3079.

Belt Public Library, 404 Millard Street, Belt, MT 59411-0467.

Chouteau County Library, 1518 Main, Fort Benton, MT 59442.

Branch of Chouteau County Library, Box 1247, Big Sandy, MT 59520.

Branch of Chouteau County Library, Box 316, Geraldine, MT 59446.

Stone Child College Library, RR 1 Box 1082, Box Elder, MT 59521.

Wedsworth Memorial Library, 9-½ Front St., Cascade, MT 59421-0526.

Fort Belknap College Library and Tribal Archives, P.O. Box 159, Harlem, MT 59526.

Harlem Public Library, 37 First Ave. SE., Harlem, MT 59526.

Choteau-Teton County Library, 17 Main Ave. North, Choteau, MT 59422.

Copies of the Final EIS may also be obtained by contacting either Richard Fristik at 202-720-5093 (e-mail: Richard.Fristik@wdc.usda.gov) or Kathy Johnson at 406-444-1760 (e-mail: katjohnson@mt.gov).

SUPPLEMENTARY INFORMATION: Presently, SME meets all of its power requirements for its cooperative member systems by purchasing power from two Federal power suppliers—the Bonneville Power Administration (BPA) and the Western Area Power Administration. The major supplier (BPA) will begin to phase out its sales of power to SME in 2008 and terminate them entirely by 2011, thus the need exists to fulfill future requirements by other means. More information on the purpose and need for the proposal is in Chapter 1 of the FEIS.

On September 24, 2004, USDA Rural Development published the Notice of Intent to prepare an EIS for the Highwood Generating Station in the Federal Register. The EIS focused on potential impacts to the following resources: Soils, topography and geology; water resources, air quality, biological resources, the acoustic environment, recreation, cultural and historic resources, visual resources, transportation, farmland and land use, waste management, human health and safety, the socioeconomic environment, environmental justice, and cumulative effects. In compliance with Section 7(c) of the Endangered Species Act, a Biological Assessment was prepared to evaluate potential effects to threatened and endangered species in the proposed project area. On June 29, 2006 USDA Rural Development published its Notice of Availability of the Draft EIS for the proposed project in the Federal Register. The 60-day comment period ended on August 30, 2006. Over 1400 comments were received on the Draft EIS; a comment/response summary is appended to the Final EIS.

Alternatives evaluated in the FEIS include: Power purchase agreements; energy conservation and efficiency; renewable non-combustible energy sources (wind energy, solar energy, hydroelectricity, geothermal energy); renewable combustible energy sources (biomass, biogas, municipal solid waste); non-renewable combustible energy sources (natural gas combined cycle, microturbines, pulverized coal, circulating fluidized bed coal, integrated gasification combined cycle coal, oil), and combinations of renewable and non-renewable sources. Site screening evaluated 4 main potential locations statewide, while site selection examined 6 alternative sites in the preferred location near Great Falls. Several same-site alternatives for project components were also studied, including using different railroad spur alignments, methods of obtaining potable water, discharging wastewater, and disposing of ash, respectively.

Alternatives assessed in detail include the: (1) No Action Alternative; (2) Proposed Action (construction/operation of the HGS at the Salem site eight miles east of Great Falls, and (3) Industrial Park Site (construction/operation of the power plant, but no wind generation, at an alternate site in a designated industrial park just north of Great Falls). The No Action Alternative avoids most direct adverse environmental effects, but potentially entails a number of indirect and cumulative impacts associated with other generation sources from which SME would have to purchase power if unable to generate its own. In most respects, with the exception of cultural and historic resources, impacts from the Proposed Action (2) and Alternative Site (3) are similar, though the proximity of the Alternative Site to greater numbers of residents intensifies some of these impacts, such as traffic, noise, and air quality; nonetheless, these impacts would not likely be significant. Potential air quality impacts at both locations would be reduced to non-significant levels through the application of CFB technology and other pollution controls. The proposed plant would comply with Montana's air quality standards, including its recent mercury rule. The agency's preferred alternative is Alternative 2.

The FEIS concludes that the Proposed Action would have significant adverse impacts on historic and visual resources, because it is located on and adjacent to the Great Falls Portage National Historic Landmark (NHL). In accordance with Section 106 of the National Historic Preservation Act, consultation was initiated with a number of consulting parties and a consulting party meeting was held in Great Falls on October 5 to discuss RUS' adverse effect finding. The results of those discussions are integrated in the FEIS, including a draft Memorandum of Agreement (MOA) that proposes on-site and off-site mitigation measures to avoid and minimize these effects. Potentially significant impacts to traffic during construction were also identified with Alternative 2; a mitigation plan would be developed in cooperation with the Montana Department of Transportation to minimize or mitigate these impacts. Other adverse but non-significant impacts of the Proposed Action include those on soils, water, air, biological resources, noise, transportation, farmland and land use, human health and safety, and environmental justice. The Proposed Action would result in moderately beneficial socioeconomic impacts, including increased employment opportunities, total purchases of goods and services, and an increase in the tax base.

Construction and operation of the proposed power plant at the Alternative Industrial Park Site would result in broadly similar impacts to those of the Proposed Action, but with some important distinctions. No wind turbines are proposed for the Industrial Park site. Due to space limitations at the Industrial Park site, ash from coal combustion would be hauled off-site to a licensed landfill for disposal. Adverse but non-significant impacts of the Alternative Site include those on soils, water, air, biological resources, noise, cultural and historic resources, visual resources, transportation, farmland and land use, human health and safety, and environmental justice. Building and operating the proposed SME power plant at the Alternative Site would produce moderately beneficial socioeconomic impacts, including increased employment opportunities, total purchases of goods and services, and an increase in the tax base.

James R. Newby,
Assistant Administrator— Electric Program, Rural Development Utilities Program.

[FR Doc. E7-2090 Filed 2-8-07; 8:45 am]

BILLING CODE 3410-15-P